OFFICE OF PERSONNEL MANAGEMENT

January 2002 Pay Adjustments

AGENCY: Office of Personnel Management.

ACTION: Notice.

SUMMARY: The President adjusted the rates of basic pay and locality payments for certain categories of Federal employees in January 2002. This notice documents those pay adjustments for the public record.

FOR FURTHER INFORMATION CONTACT: Brenda Roberts, Office of Compensation Administration, Workforce Compensation and Performance Service, Office of Personnel Management, (202) 606-2858, FAX (202) 606-0824, or email to payleave@opm.gov.

SUPPLEMENTARY INFORMATION: On December 28, 2001, the President signed Executive Order 13249 (67 FR 639, January 7, 2002), which implemented the January 2002 across-the-board adjustments for the statutory pay systems and the 2002 locality pay adjustments for General Schedule (GS) employees in the 48 contiguous States and the District of Columbia. The President made these adjustments consistent with Public Law 107-67, November 12, 2001, which authorized an overall average pay increase of 4.6 percent for General Schedule employees.

Schedule 1 of Executive Order 13249 provides the rates for the 2002 General Schedule and reflects a 3.6 percent general increase. Executive Order 13249 also includes the percentage amounts of the 2002 locality payments. (See Section 5 and Schedule 9 of Executive Order 13249.)

The publication of this notice satisfies the requirement in section 5(b) of Executive Order 13182 that the Office of Personnel Management (OPM) publish appropriate notice of the 2002 locality payments in the Federal Register.

GS employees receive locality payments under 5 U.S.C. 5304. Locality payments apply in the 48 contiguous States and the District of Columbia. In 2002, locality payments ranging from 8.64 percent to 19.04 percent apply to GS employees in 32 locality pay areas. These 2002 locality pay percentages, which replaced the locality pay percentages that were applicable in 2001, became effective on the first day of the first applicable pay period beginning on or after January 1, 2002. An employee's locality-adjusted annual rate of pay is computed by increasing his or her scheduled annual rate of basic pay (as defined in 5 U.S.C. 5302(8) and 5 CFR 531.602) by the applicable locality pay percentage. (See 5 CFR 531.604 and 531.605.)

Executive Order 13249 establishes the new Executive Schedule, which incorporates the 3.4 percent increase (rounded to the nearest $100) required under 5 U.S.C. 5318. The Executive order also reflects a decision by the President to increase the rates of basic pay for members of the Senior Executive Service (SES) by 3.6 percent (rounded to the nearest $100) at levels ES-1 through ES-3 and by 3.4 percent (rounded to the nearest $100) at levels ES-4 through ES-6. The maximum rate of basic pay for SES members is limited by law to the rate for level IV of the Executive Schedule, which is now $130,000.

The Executive order adjusted the rates of basic pay for administrative law judges (ALJs) at levels AL-2 and AL-3 by approximately 5.4 percent (rounded to the nearest $100). The rate of basic pay for AL-1 was increased by approximately 3.4 percent, since that rate is capped at the rate for level IV of the Executive Schedule. (See 5 U.S.C. 5372.)

The rates of basic pay for Board of Contract Appeals (BCA) members are calculated as a percentage of the rate for level IV of the Executive Schedule. (See 5 U.S.C. 5372a.) Therefore, BCA rates of basic pay were increased by approximately 3.4 percent. Also, the maximum rate of basic pay for senior-level (SL) and scientific or professional (ST) positions was increased by approximately 3.4 percent (to $130,000) because it is tied to the rate for level IV of the Executive Schedule. The minimum rate of basic pay for SL/ST positions is equal to 120 percent of the minimum rate of basic pay for GS-15 and thus was increased by 3.6 percent (to $99,096). (See 5 U.S.C. 5376.)

On December 6, 2001, the President's Pay Agent extended the 2002 locality-based comparability payments to the same Governmentwide and single-agency categories of non-GS employees that received the 2001 locality payments. The Governmentwide categories include members of the SES, the Foreign Service, the Senior Foreign Service, employees in SL/ST positions, ALJs, administrative appeals judges, and BCA members.

OPM published “Salary Tables for 2002,” (OPM Doc. 124-48-6) in April 2002. This publication provides complete salary tables incorporating the 2002 pay adjustments, information on general pay administration matters, locality pay area definitions, Internal Revenue Service withholding tables, and other related information. The rates of pay shown in this publication are the official rates of pay for affected employees and are hereby incorporated as part of this notice. You may purchase copies of “Salary Tables for 2002” from the Government Printing Office (GPO) by calling (202) 512-1800 (outside the DC area: 1-866-512-1800) or FAX (202) 512-2250. You may order copies directly from GPO on the Internet at http://bookstore.gpo.gov. In addition, you can find pay tables on OPM's Internet Web site at http://www.opm.gov/oca/payrates/index.htm.

Office of Personnel Management.
Kay Coles James,
Director.

[FR Doc. 02-10136 Filed 4-24-02; 8:45 am]

BILLING CODE 6325-39-P